DEPARTMENT OF HOUSING AND URBAN DEVELOPMENT

[Docket No. FR-5376-N-82]

Notice of Submission of Proposed Information Collection to OMB; Emergency Comment Request; Application for Healthy Homes and Lead Hazard Control Grant Programs and Quality Assurance Plans

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

This information collection is required in conjunction with the issuance of Notice of Funding Availability of approximately $132,000,000 for Healthy Homes and Lead Hazard Control Programs that are authorized under Title X of the Housing and Community Development Act of 1992, Public Law 102-550, Section 1011, and other legislation. The quality Assurance Plan is obtained after the award of grants.

DATES: Comments Due Date: August 27, 2010.

ADDRESSES: Interested persons are invited to submit comments regarding this proposal. Comments must be received within seven (7) days from the date of this Notice. Comments should refer to the proposal by name/or OMB approval number and should be sent to: HUD Desk Officer, Office of Management and Budget, New Executive Office Building, Washington, DC 20503; e-mail: OIRA_Submission @omb.eop.gov; fax: (202) 395-5806.

FOR FURTHER INFORMATION CONTACT: Leroy McKinney, Reports Management Officer, QDAM, Department of Housing and Urban Development, 451 Seventh Street, SW., Washington, DC 20410; e-mail: Leroy.MckinneyJr@hud.gov; telephone (202) 402-5564. This is not a toll-free number. Copies of available documents submitted to OMB may be obtained from Mr. McKinney.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Application for Healthy Homes and Lead Hazard Control Grant Programs and Quality Assurance Plans.

OMB Control Number: 2539-0015.

Agency Form Numbers: HUD 96008, HUD 96012, HUD 27300, HUD 96015, HUD 96009, HUD 27061, SF 424, HUD 2994-A, SF LLL, HUD 96010, HUD 96011, HUD 96014, HUD 424 cbw, HUD 2880, HUD 960139, HUD 2990, HUD 2991, HUD 2993, HUD 96013.

Description of Information Collection: This information collection is required in conjunction with the issuance of Notice of Funding Availability of approximately $132,000,000 for Healthy Homes and Lead Hazard Control Programs that are authorized under Title X of the Housing and Community Development Act of 1992, Public Law 102-550, Section 1011, and other legislation. The Quality Assurance Plan is obtained after the award of grants.

Members of Affected Public: Potential applicants include State, Tribal, local governments, not-for-profit institutions and for-profit firms located in the U.S. State and units of general local government and Federally recognized Native American Tribes.

Estimation of the total numbers of hours needed to prepare the information collection including number of respondents, frequency of responses, and hours of responses: The estimated number of respondents is 250; the frequency of responses is once; and the total reporting burden will be approximately 21,760 hours.

Total Estimated Burden Hours: 21,760.

Status of the proposed information collection: Revision of currently approved collection.

Authority: The Paperwork Reduction Act of 1995, 44 U.S.C. Chapter 35, as amended.

Dated: August 12, 2010.
Leroy McKinney, Jr.,
Departmental Reports Management Officer, Office of the Chief Information Officer.

[FR Doc. 2010-20753 Filed 8-19-10; 8:45 am]

BILLING CODE 4210-67-P